DEPARTMENT OF TRANSPORTATION

Federal Motor Carrier Safety Administration

[Docket No. FMCSA-2011-0299]

Qualification of Drivers; Exemption Applications; Vision

AGENCY: Federal Motor Carrier Safety Administration (FMCSA), DOT.

ACTION: Notice of applications for exemptions; request for comments.

SUMMARY: FMCSA announces receipt of applications from 8 individuals for exemption from the vision requirement in the Federal Motor Carrier Safety Regulations. If granted, the exemptions would enable these individuals to qualify as drivers of commercial motor vehicles (CMVs) in interstate commerce without meeting the Federal vision requirement.

DATES: Comments must be received on or before December 29, 2011.

ADDRESSES: You may submit comments bearing the Federal Docket Management System (FDMS) Docket No. FMCSA-2011-0299 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-(202) 493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs Division, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 8 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Marion J. Coleman, Jr.

Mr. Coleman, age 40, has had amblyopia in his right eye since childhood. The best corrected visual acuity in his right eye is 20/70 and in his left eye, 20/25. Following an examination in 2011, his ophthalmologist noted, “He has sufficient vision to perform the driving tasks required to operate a commercial vehicle.” Mr. Coleman reported that he has driven tractor-trailer combinations for 12 years, accumulating 1.8 million miles. He holds a Class A Commercial Driver's License (CDL) from Kentucky. His driving record for the last 3 years shows no crashes but one conviction for speeding in a Commercial Motor Vehicle (CMV). He exceeded the speed limit by 9 mph.

Layne C. Coscorrosa

Mr. Coscorrosa, 33, has had amblyopia in his left eye since childhood. The best corrected visual acuity in his right eye is 20/20 and in his left eye, 20/200. Following an examination in 2011, his ophthalmologist noted, “I certify that he can perform the tasks required to operate a commercial vehicle.” Mr. Coscorrosa reported that he has driven buses for 6 years, accumulating 150,000 miles. He holds a Class B CDL from Washington. His driving record for the last 3 years shows no crashes and no convictions for moving violations in a CMV.

Lex A. Fabrizio

Mr. Fabrizio, 39, has had complete loss of vision in his left eye, due to coat's disease since age 3. The best corrected visual acuity in his right eye is 20/20. Following an examination in 2011, his ophthalmologist noted, “In my opinion, Lex has normal vision and can perform all visual tasks necessary in driving a commercial truck.” Mr. Fabrizio reported that he has driven straight trucks for 5 years, accumulating 50,000 miles and tractor-trailer combinations for 5 years, accumulating 400,000 miles. He holds a Class A CDL from Utah. His driving record for the last 3 years shows no crashes and no convictions for moving violations in a CMV.

Mark A. Ferris

Mr. Ferris, 55, has had amblyopia in his left eye since childhood. The best corrected visual acuity in his right eye is 20/20 and in his left eye, 20/70. Following an examination in 2011, his optometrist noted, “In my professional opinion, Mr. Ferris has more than sufficient vision to perform the driving tasks required to operate any commercial motor vehicle.” Mr. Ferris reported that he has driven straight trucks for 21 years, accumulating 651,000 miles and tractor-trailer combinations for 5 years, accumulating 150,000 miles. He holds a Class A CDL from Iowa. His driving record for the last 3 years shows no crashes and no convictions for moving violations in a CMV.

Charles J. Kennedy

Mr. Kennedy, 61, has had amblyopia in his left eye since childhood. The best corrected visual acuity in his right eye 20/20 and in his left eye, 20/60. Following an examination in 2011, his ophthalmologist noted, “I am able to certify in my medical opinion, you do have sufficient vision required to perform driving tasks associated with operating a commercial vehicle.” Mr. Kennedy reported that he has driven straight trucks for 35 years, accumulating 525,000 miles and tractor-trailer combinations for 22 years, accumulating 176,000 miles. He holds a Class A CDL from Ohio. His driving record for the last 3 years shows no crashes and no convictions for moving violations in a CMV.

John E. Nichols

Mr. Nichols, 54, has had amblyopia in his left eye since childhood. The best corrected visual acuity in his right eye 20/20 and in his left eye, 20/200. Following an examination in 2011, his ophthalmologist noted, “he does have full visual field and color vision to allow him to perform the driving tasks required to operate a commercial vehicle.” Mr. Nichols reported that he has driven straight trucks for 30 years, accumulating 1.1 million miles. He holds a Class A CDL from Pennsylvania. His driving record for the last 3 years shows no crashes and no convictions for moving violations in a CMV.

Greg W. Story

Mr. Story, 54, has had retinal detachment and repair in his right eye since June 15, 2008. The best corrected visual acuity in his right eye is light perception and in his left eye, 20/40. Following an examination in 2011, his optometrist noted, “I feel confident that Mr. Story has adequate vision to perform his duties as a commercial truck driver.” Mr. Story reported that he has driven straight trucks for 12 years, accumulating 249,996 miles and tractor-trailer combinations for 12 years, accumulating 999,996 miles. He holds a Class A CDL from North Carolina. His driving record for the last 3 years shows no crashes but one conviction for speeding in a CMV. He exceeded the speed limit by 10 mph.

Gilford J. Whittle

Mr. Whittle, 62, has had amblyopia in his left eye since birth. The best corrected visual acuity in his right eye 20/20 and in his left eye, count-finger vision. Following an examination in 2011, his ophthalmologist noted, “I do not see where there have been any changes which would complicate his ability to drive a commercial vehicle at this time.” Mr. Whittle reported that he has driven tractor-trailer combinations for 22½ years, accumulating 2.7 million miles. He holds a Class A CDL from Georgia. His driving record for the last 3 years shows no crashes and no convictions for moving violations in a CMV.

Request for Comments

In accordance with 49 U.S.C. 31136(e) and 31315, FMCSA requests public comment from all interested persons on the exemption petitions described in this notice. The Agency will consider all comments received before the close of business December 29, 2011. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: November 18, 2011.
Larry W. Minor,
Associate Administrator for Policy.

[FR Doc. 2011-30736 Filed 11-28-11; 8:45 am]

BILLING CODE 4910-EX-P